DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from Poinsett County, AR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Denver Museum of Nature & Science professional staff in consultation with representatives of the Chickasaw Nation, Oklahoma; Choctaw Nation of Oklahoma; Osage Nation, Oklahoma; and Quapaw Tribe of Indians, Oklahoma.

In 1934, human remains representing a minimum of one individual were removed from a burial context three miles north of Marked Tree, Poinsett County, AR. In 1994, the human remains were found in the museum's collections during an inventory and then formally accessioned (DMNS catalogue number A1991.3). No known individual was identified. No associated funerary objects are present.

Based on physical analysis, the human remains are determined to be Native American. Archeological evidence suggests that mound sites in Poinsett County date to the Parkin Phase of the Mississippian nucleation horizon (A.D. 1350-1650). Oral history evidence and historical documentation, supported by linguistic evidence, indicate that the region, including Poinsett County, has long been part of the traditional ancestral homelands and hunting territory of the Quapaw. After further tribal consultation, the remains have been determined to be culturally affiliated with the Quapaw Tribe of Indians, Oklahoma.

Officials of the Denver Museum of Nature & Science have determined that, pursuant to 25 U.S.C. 2001 (9-10), the human remains described above represent the physical remains of one individual of Native American ancestry. Officials of the Denver Museum of Nature & Science also have determined that, pursuant to 25 U.S.C. 3001 (2), there is a relationship of shared group identity that can be reasonably traced between the Native American human remains and the Quapaw Tribe of Indians, Oklahoma.

Representatives of any other Indian tribe that believes itself to be culturally affiliated with the human remains should contact Dr. Chip Colwell-Chanthaphonh, Denver Museum of Nature & Science, 2001 Colorado Blvd., Denver, CO 80205, telephone (303) 370-6378, before March 5, 2010. Repatriation of the human remains to the Quapaw Tribe of Indians, Oklahoma may proceed after that date if no additional claimants come forward.

The Denver Museum of Nature & Science is responsible for notifying the Chickasaw Nation, Oklahoma; Choctaw Nation of Oklahoma; Osage Nation, Oklahoma; and Quapaw Tribe of Indians, Oklahoma that this notice has been published.

Dated: January 21, 2010
Sherry Hutt,
Manager, National NAGPRA Program.

[FR Doc. 2010-2221 Filed 2-2-10; 8:45 am]

BILLING CODE 4312-50-S